DEPARTMENT OF COMMERCE

International Trade Administration

[A-570-905]

Certain Polyester Staple Fiber From the People's Republic of China: Partial Rescission of the Third Antidumping Duty Administrative Review

AGENCY: Import Administration, International Trade Administration, Department of Commerce.

DATES: Effective Date: November 19, 2010.

FOR FURTHER INFORMATION CONTACT: Steven Hampton or Jerry Huang, Office 9, AD/CVD Operations, Import Administration, International Trade Administration, U.S. Department of Commerce, 14th Street and Constitution Avenue, NW., Washington, DC 20230; telephone: (202) 482-0116 and (202) 482-4047, respectively.

SUPPLEMENTARY INFORMATION:

Background

On June 1, 2010, the Department of Commerce (“the Department”) published in the Federal Register a notice of “Opportunity to Request Administrative Review” of the antidumping duty order on certain polyester staple fiber (“PSF”) from the People's Republic of China (“PRC”) for the period of review (“POR”) June 1, 2009, through May 31, 2010. See Antidumping or Countervailing Duty Order, Finding, or Suspended Investigation; Opportunity To Request Administrative Review, 75 FR 30383 (June 1, 2010).

On June 29, 2010, in accordance with 19 CFR 351.213(b), the Department received timely requests from Ningbo Dafa Chemical Fiber Co., Ltd. (“Ningbo Dafa”) and Cixi Santai Chemical Fiber Co., Ltd. (“Cixi Santai”) to conduct an administrative review and requests for revocation of the associated antidumping duty order, in part, in accordance with section 771(9)(A) of the Tariff Act of 1930, as amended (“the Act”) and 19 CFR 351.222(b)(2), based on three consecutive segments with a finding of de minimis sales at less than normal value. The Department also received timely requests from Hangzhou Sanxin Paper Co., Ltd. (“Hangzhou Sanxin”), Nantong Luolai Chemical Fiber Co., Ltd. (“Nantong Luolai”), NanYang Textiles Co., Ltd. (“NanYang Textiles”), Zhaoqing Tifo New Fiber Co., Ltd. (“Zhaoqing Tifo”), Cixi Sansheng Chemical Fiber Co., Ltd. (“Sansheng”), Zhejiang Waysun Chemical Fiber Co., Ltd., and Cixi Waysun Chemical Fiber Co., Ltd. for an annual administrative review. The Department also received a timely request from Fibertex Corporation (“Fibertex”), an importer of PSF from the PRC, to conduct an administrative review of Ningbo Dafa, Cixi Santai, Zhaoqing Tifo, Sansheng, and Far Eastern Industries Ltd. (Shanghai) and Far Eastern Polychem Industries (collectively “Far Eastern”).

On June 30, 2010, in accordance with 19 CFR 351.213(b), the Department received a timely request from Huvis Sichuan Chemical Fiber Corporation (“Huvis Sichuan”) to conduct an administrative review. Huvis Sichuan is a producer and exporter of the merchandise covered by the antidumping duty order on PSF from the PRC. The Department also received a timely request from DAK Americas and Nan Ya America Corp. (collectively “Petitioners”) to conduct an administrative review of Ningbo Dafa and Cixi Santai.

On July 28, 2010, the Department published in the Federal Register a notice of initiation of an administrative review of the antidumping duty order on PSF from the PRC covering eleven respondents: Far Eastern; Sansheng; Cixi Santai; Cixi Waysun Chemical Fiber Co., Ltd.; Hangzhou Sanxin; Nantong Luolai; NanYang Textiles; Ningbo Dafa Chemical Fiber Co., Ltd.; Zhaoqing Tifo; Zhejiang Waysun Chemical Fiber Co., Ltd.; and Huvis Sichuan Chemical Fiber Corporation. See Initiation of Antidumping and Countervailing Duty Administrative Reviews and Requests for Revocations in Part, 75 FR 44224 (July 28, 2010).

On August 17, 2010, Nantong Luolai, NanYang Textiles, and Sansheng timely withdrew their requests for review. On September 9, 2010, Fibertex timely withdrew its request for a review with respect to Far Eastern Industries, Ltd. (Shanghai) and Far Eastern Polychem Industries. On September 20, 2010, Cixi Waysun Chemical Fiber Co., Ltd. timely withdrew its request for review. On October 15, 2010, Fibertex timely withdrew its request for a review with respect to Sansheng. Thus, the Department is rescinding this administrative review with respect to these five companies.

Partial Rescission of Review

Pursuant to 19 CFR 351.213(d)(1), the Department will rescind an administrative review in whole or in part, if the party that requested the review withdraws its request within 90 days of the date of publication of the notice of initiation of the requested review. The regulation further states that the Secretary may extend the deadline if it is reasonable to do so. Because the following five parties withdrew their respective requests for an administrative review within 90 days of the date of publication of the notice of initiation, and there are currently no outstanding requests for an administrative review, the Department is rescinding this review with respect to these entities, in accordance with 19 CFR 351.213(d)(1):

• Cixi Sansheng Chemical Fiber Co., Ltd. (“Sansheng”).

• Cixi Waysun Chemical Fiber Co., Ltd.

• Far Eastern Industries, Ltd. (Shanghai) and Far Eastern Polychem Industries (“Far Eastern”).

• Nantong Luolai Chemical Fiber Co., Ltd. (“Nantong Luolai”).

• NanYang Textiles Co., Ltd. (“NanYang Textiles”).

Assessment Instructions

The Department will instruct U.S. Customs and Border Protection (“CBP”) to assess antidumping duties on all appropriate entries. For the companies listed above which had a separate rate granted in a previously completed segment of this proceeding that was in effect during the instant review period, antidumping duties shall be assessed on entries subject to the separate rate at rates equal to the cash deposit of estimated antidumping duties required at the time of entry, or withdrawal from warehouse, for consumption, in accordance with 19 CFR 351.212(c)(1)(i). The Department intends to issue appropriate assessment instructions for such companies directly to CBP 15 days after the publication of this notice in the Federal Register. For any of the companies listed above that do not currently have a separate rate (and thus remain a part of the PRC-wide entity), the Department will issue assessment instructions upon the completion of this administrative review.

Notification to Importers

This notice serves as a final reminder to importers for whom this review is being rescinded, as of the publication date of this notice, of their responsibility under 19 CFR 351.402(f) to file a certificate regarding the reimbursement of antidumping duties prior to liquidation of the relevant entries during this review period. Failure to comply with this requirement could result in the Secretary's assumption that reimbursement of the antidumping duties occurred and the subsequent assessment of double antidumping duties.

Notification Regarding Administrative Protective Orders

This notice also serves as a reminder to parties subject to administrative protective order (“APO”) of their responsibility concerning the return or destruction of proprietary information disclosed under an APO in accordance with 19 CFR 351.305(a)(3), which continues to govern business proprietary information in this segment of the proceeding. Timely written notification of the return/destruction of APO materials or conversion to judicial protective order is hereby requested. Failure to comply with the regulations and terms of an APO is a violation which is subject to sanction.

This notice is issued and published in accordance with section 777(i)(1) of the Act, and 19 CFR 351.213(d)(4).

Dated: November 12, 2010.
Susan H. Kuhbach,
Acting Deputy Assistant Secretary for Antidumping and Countervailing Duty Operations.

[FR Doc. 2010-29262 Filed 11-18-10; 8:45 am]

BILLING CODE 3510-DS-P